DEPARTMENT OF TRANSPORTATION

Surface Transportation Board

[Docket No. FD 35442]

R.J. Corman Railroad Company/Central Kentucky Lines, LLC—Trackage Rights Exemption—CSX Transportation, Inc.

Pursuant to a written trackage rights agreement dated February 5, 2005,¹ CSX Transportation, Inc. (CSXT) has agreed to grant limited overhead trackage rights to R.J. Corman Railroad Company/Central Kentucky Lines, LLC (RJCC) ² over a CSXT line of railroad between the end of the Water Street Lead at milepost 00T 1.8 in Louisville, Ky., and milepost 00T 12.5 at HK Tower in Anchorage, Ky., a distance of approximately 10.7 miles. This notice was filed to correct a misdescription of the corporate process by which RJCC actually obtained these trackage rights in 2005.³ In the original notices, R.J. Corman Railroad Company/Central Kentucky Lines, LLC—Acquisition and Operation Exemption—Line of R.J. Corman Railroad Property, LLC, FD 34624 (STB served Feb. 23, 2005), and R.J. Corman Railroad Property, LLC—Lease Exemption—Line of CSX Transportation, Inc., FD 34625 (STB served Mar. 4, 2005), RJCC stated that it acquired the rights from CSXT through its corporate affiliate, R.J. Corman Railroad Property, LLC (Railroad Property). Instead, RJCC acquired the rights directly from CSXT, as stated in this notice.⁴

¹ The original agreement was subsequently amended in April 2008 and August 2010.

² RJCC, a Class III carrier, is controlled by Richard J. Corman who also controls several other Class III rail carriers in the eastern United States. See Richard J. Corman—Continuance in Control Exemption—R.J. Corman Railroad Company/Central Kentucky Lines, FD 34327 (STB served Apr. 14, 2003).

³ While RJCC and Railroad Property originally filed a petition to reopen and modify the trackage rights portions of those notices to correct the misdescriptions, they subsequently filed a request to withdraw that petition. The request to withdraw will be addressed subsequently in a separate decision.

⁴ The 2005 notices also involved the lease and sublease/operation of a CSXT line accurately described by the parties. The notices were published by the Board.

The transaction may be consummated on or after December 16, 2010, the effective date of the exemption (30 days after the exemption is filed). The trackage rights will allow RJCC to move certain commodities between RJCC's main line across Kentucky and the Water Street Lead in Louisville, which RJCC leases from CSXT.

As a condition to this exemption, any employees affected by the trackage rights will be protected by the conditions imposed in Norfolk and Western Railway-Trackage Rights-Burlington Northern, Inc., 354 I.C.C. 605 (1978), as modified in Mendocino Coast Railway-Lease and Operate-California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by December 9, 2010 (at least 7 days before the exemption becomes effective).

An original and 10 copies of all pleadings, referring to Docket No. FD 35442, must be filed with the Surface Transportation Board, 395 E Street, SW., Washington, DC 20423-0001. In addition, a copy of each pleading must be served on Thomas J. Litwiler, 29 North Wacker Drive, Suite 920, Chicago, IL 60606.

Board decisions and notices are available on our Web site at “WWW.STB.DOT.GOV.”

Decided: November 26, 2010.
By the Board, Joseph H. Dettmar, Acting Director, Office of Proceedings.
Andrea Pope-Matheson,
Clearance Clerk.

[FR Doc. 2010-30269 Filed 12-1-10; 8:45 am]

BILLING CODE 4915-01-P